DEPARTMENT OF HEALTH AND HUMAN SERVICES

Substance Abuse and Mental Health Services Administration

Correction of Application Deadline for the Grant Program, National Technical Assistance Center for the Mental Health Services Needs of Older Adults (SM 02-016)

AGENCY: Substance Abuse and Mental Health Services Administration (SAMHSA), DHHS.

ACTION: Correction of application Deadline for the grant program, National Technical Assistance Center for the Mental Health Services Needs of Older Adults (SM 02-016).

SUMMARY: This notice is to inform the public that the application deadline published on June 27, 2002, for the grant program, National Technical Assistance Center for the Mental Health Services Needs of Older Adults (SM 02-016), is incorrect. The correct application deadline is August 8, 2002.

Program Contact: For questions about the due date for this program or other program issues relating to this program, contact: Betsy McDonel Herr, Ph.D., Social Science Analyst, Center for Mental Health Services, SAMHSA, Room 11C-22, 5600 Fishers Lane, Rockville, MD 20857, (301) 594-2197, (301) 443-0541 (Fax), e-mail: bmcdonel@samhsa.gov.

Dated: June 28, 2002.
Chuck Novak,
Acting Executive Officer, Substance Abuse and Mental Health Services Administration.

[FR Doc. 02-16789 Filed 7-3-02; 8:45 am]

BILLING CODE 4162-20-P